DEPARTMENT OF HEALTH AND HUMAN SERVICES

Food and Drug Administration

[Docket No. FDA-2012-N-0386]

Agency Information Collection Activities; Submission for Office of Management and Budget Review; Comment Request; Registration and Product Listing for Owners and Operators of Domestic Tobacco Product Establishments and Listing of Ingredients in Tobacco Products; Correction

AGENCY: Food and Drug Administration, HHS.

ACTION: Notice; correction.

SUMMARY: The Food and Drug Administration (FDA) is correcting a notice that appeared in the Federal Register of August 3, 2012 (77 FR 46441). The document announced that a proposed collection of information had been submitted to the Office of Management and Budget for review and clearance under the Paperwork Reduction Act of 1995. The document published with incorrect FDA form numbers. This document corrects those errors.

FOR FURTHER INFORMATION CONTACT: Daniel Gittleson, Office of Information Management, Food and Drug Administration, 1350 Piccard Dr., PI50-400B, Rockville, MD 20850, 301-796-5156, Daniel.Gittleson@fda.hhs.gov.

SUPPLEMENTARY INFORMATION: In FR Doc. 2012-18975 appearing on page 46441 in the Federal Register of Friday, August 3, 2012, the following corrections are made:

1. On page 46442, in the third column, in the first full paragraph, the fifth sentence “FDA also developed paper forms (Form FDA 3742—Registration and Listing for Owners and Operators of Domestic Tobacco Product Establishments and Form FDA 3743—Listing of Ingredients in Tobacco Products) as an alternative submission tool.” is corrected to read “FDA also developed paper forms (Form FDA 3741—Registration and Listing for Owners and Operators of Domestic Tobacco Product Establishments and Form FDA 3742—Listing of Ingredients in Tobacco Products) as an alternative submission tool.”

2. On page 46442, in table 1, “Form FDA 3742” is corrected to read “Form FDA 3741” and “Form FDA 3743” is corrected to read “Form FDA 3742”.

Dated: September 12, 2012.
Leslie Kux,
Assistant Commissioner for Policy.

[FR Doc. 2012-22920 Filed 9-17-12; 8:45 am]

BILLING CODE 4160-01-P